DEPARTMENT OF HOMELAND SECURITY

Federal Emergency Management Agency

[Docket ID FEMA-2013-0002; Internal Agency Docket No. FEMA-B-1301]

Proposed Flood Hazard Determinations for Plaquemines Parish, Louisiana and Incorporated Areas, and St. Charles Parish, Louisiana and Incorporated Areas

AGENCY: Federal Emergency Management Agency, DHS.

ACTION: Notice; withdrawal.

SUMMARY: The Federal Emergency Management Agency (FEMA) is withdrawing its proposed notice concerning proposed flood hazard determinations, which may include the addition or modification of any Base Flood Elevation, base flood depth, Special Flood Hazard Area boundary or zone designation, or regulatory floodway on the Flood Insurance Rate Maps, and where applicable, in the supporting Flood Insurance Study reports for Plaquemines Parish, Louisiana, and Incorporated Areas, and St. Charles Parish, Louisiana, and Incorporated Areas.

DATES: This withdrawal is effective December 27, 2013.

ADDRESSES: You may submit comments, identified by Docket No. FEMA-B-1301, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On April 4, 2013, FEMA published proposed notices at 78 FR 20340 and 78 FR 20341 proposing flood hazard determinations in Plaquemines Parish, and St. Charles Parish, Louisiana, respectively. FEMA is withdrawing both of the proposed notices.

Authority: 42 U.S.C. 4104; 44 CFR 67.4.

Dated: November 22, 2013.
Roy E. Wright,
Deputy Associate Administrator for Mitigation, Department of Homeland Security, Federal Emergency Management Agency.

[FR Doc. 2013-30950 Filed 12-26-13; 8:45 am]

BILLING CODE 9110-12-P